DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: SAMHSA Recovery Measurement Pilot Study—NEW

The Substance Abuse and Mental Health Services Administration (SAMHSA), Center for Behavioral Health Statistics and Quality (CBHSQ) is proposing a pilot test of its Recovery Measure. As part of its strategic initiative to support recovery from mental health and substance use disorders, SAMHSA has been working to develop a standard measure of recovery that can be used as part of its grantee performance reporting activities.

This project will assess the usability and psychometric properties of the proposed tool among a voluntary group of 2-3 SAMHSA grantees. SAMHSA has developed a short 20-item instrument that has been designed to capture all four of SAMHSA's proposed dimensions of recovery—health, home, purpose, and community. This measure is comprised of questions from the World Health Organization's Quality of Life tool (WHO QOL 8) and SAMHSA's existing set of Government Performance and Results Act (GPRA) measures. Data will be collected at two time points—at client intake and at six-months post-intake. These are two points in time during which SAMHSA grantees routinely collect data on the individuals participating in their programs.

Approval of these items by the Office of Management and Budget (OMB) will allow SAMHSA to further refine the Recovery Measure developed for this project. It will also help determine whether the Recovery Measure is added to SAMHSA's set of required performance measurement tools designed to aid in tracking recovery among clients receiving services from the Agency's funded programs.

Based on current funding and planned fiscal year 2014 notice of funding announcements the following SAMHSA grantee programs will be selected to participate in this pilot study: Behavioral Health Treatment Court Collaborative (BHTCC); Cooperative Agreements to Benefit Homeless Individuals (CABHI); and the Primary and Behavioral Health Care Integration (PBHCI). Data collected will be used by individuals at three different levels: The SAMHSA administrator and staff, the Center administrators and government project officers, and grantees.

The total estimated respondent burden is 60 hours for the period from September 2014 through March 2015. Table 1 below indicates the annualized respondent burden estimate.

Table 1—Annualized Respondent Burden Hours, 2014-2015
[Estimated annual response burden]
Type of grantees | Number of respondents | Responses per respondent | Average hours per response | Total burden hours
Intake:
Behavioral Health Treatment Court Collaborative (BHTCC) | 100 | 1 | 0.10 | 10
Cooperative Agreements to Benefit Homeless Individuals (CABHI) | 50 | 1 | 0.10 | 5
Primary and Behavioral Health Care Integration (PBHCI) | 150 | 1 | 0.10 | 15
6-Month Follow-up:
Behavioral Health Treatment Court Collaborative (BHTCC) | 100 | 1 | 0.10 | 10
Cooperative Agreements to Benefit Homeless Individuals (CABHI) | 50 | 1 | 0.10 | 5
Primary and Behavioral Health Care Integration (PBHCI) | 150 | 1 | 0.10 | 15
Total | 300 |  |  | 60

Written comments and recommendations concerning the proposed information collection should be sent by April 3, 2014 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-04741 Filed 3-3-14; 8:45 am]

BILLING CODE 4162-20-P